DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (email) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Crittenden County, Arkansas, and Incorporated Areas
Docket No.: FEMA-B-1045
Mississippi River | Approximately at River Mile 700 | +212 | Unincorporated Areas of Crittenden County.
| Approximately at River Mile 727 | +226
| Approximately at River Mile 741 | +234
| Approximately at River Mile 750 | +237
* National Geodetic Vertical Datum.
+ North American Vertical Datum.
# Depth in feet above ground.
‸ Mean Sea Level, rounded to the nearest 0.1 meter.
ADDRESSES
Unincorporated Areas of Crittenden County
Maps are available for inspection at the County Courthouse, 85 Jackson Street, Marion, AR 72482.
Mesa County, Colorado, and Incorporated Areas
Docket No.: FEMA-B-1049
Gold Star Canyon | Just above the confluence with the Colorado River | +4518 | Unincorporated Areas of Mesa County, City of Grand Junction.
| Just upstream of South Broadway | +4805
Kannah Creek | Just above the confluence with Indian Creek | +4766 | Unincorporated Areas of Mesa County.
| Approximately 320 feet upstream of Upper Kannah Creek Road | +6093
Kannah Creek Lower Split Flow | Just above the confluence with Kannah Creek | +4806 | Unincorporated Areas of Mesa County.
| Just below the divergence from Kannah Creek | +4826
Kannah Creek Upper Split Flow | Just above the confluence with Kannah Creek | +4894 | Unincorporated Areas of Mesa County.
| Just below the divergence from Kannah Creek | +4935
Red Canyon | Just above the confluence with the Colorado River | +4546 | Unincorporated Areas of Mesa County, City of Grand Junction.
| Approximately 5,670 feet above South Camp Road | +5020
* National Geodetic Vertical Datum.
+ North American Vertical Datum.
# Depth in feet above ground.
‸ Mean Sea Level, rounded to the nearest 0.1 meter.
ADDRESSES
City of Grand Junction
Maps are available for inspection at 250 North 5th Street, Grand Junction, CO 81501.
Unincorporated Areas of Mesa County
Maps are available for inspection at 544 Rood Avenue, Grand Junction, CO 81502.
Dukes County, Massachusetts (All Jurisdictions)
Docket No.: FEMA-B-1047
Atlantic Ocean | Between Gilberts Cove and Quenames Cove | +11 | Town of Chilmark, Town of Edgartown, Town of West Tisbury.
| Between Paqua Pond and Jobs Neck Pond | +9
| Between Long Cove and Homer Road | +9
Vineyard Sound | Approximately 300 feet east of the intersection of Lobsterville Road and West Basin Road | +9 | Town of Aquinnah, Town of Oak Bluffs, Town of Tisbury.
| Between Farm Pond and Hamlin Pond | +12
| Between Algonquin Avenue and Yacht Club Lane | +12
* National Geodetic Vertical Datum.
+ North American Vertical Datum.
# Depth in feet above ground.
‸ Mean Sea Level, rounded to the nearest 0.1 meter.
ADDRESSES
Town of Aquinnah
Maps are available for inspection at the Town Hall, 65 State Road, Aquinnah, MA 02535.
Town of Chilmark
Maps are available for inspection at the Town Hall, 401 Middle Road, Chilmark, MA 02535.
Town of Edgartown
Maps are available for inspection at the Town Hall, 70 Main Street, Edgartown, MA 02539.
Town of Oak Bluffs
Maps are available for inspection at the Town Hall, 56 School Street, Oak Bluffs, MA 02557.
Town of Tisbury
Maps are available for inspection at the Tisbury Town Hall, 51 Spring Street, Vineyard Haven, MA 02568.
Town of West Tisbury
Maps are available for inspection at the Town Hall, 1059 State Road, West Tisbury, MA 02575.
Walthall County, Mississippi, and Incorporated Areas
Docket No.: FEMA-B-1060
Magees Creek | Approximately 4,050 feet downstream of State Highway 198 | +258 | Unincorporated Areas of Walthall County.
| Approximately 2,300 feet upstream of State Highway 198 | +264
* National Geodetic Vertical Datum.
+ North American Vertical Datum.
# Depth in feet above ground.
‸ Mean Sea Level, rounded to the nearest 0.1 meter.
ADDRESSES
Unincorporated Areas of Walthall County
Maps are available for inspection at 200 Ball Avenue, Tylertown, MS 39667.
Middlesex County, New Jersey (All Jurisdictions)
Docket No.: FEMA-B-1017
Ambrose Brook | Approximately 1,820 feet upstream of Stelton Road (Route 529) | +78 | Township of Edison.
| Approximately 1,875 feet upstream of Stelton Road (Route 529) | +78
Bonygutt Brook | Approximately 700 feet downstream of Bound Brook Road | +46 | Borough of Dunellen, Township of Piscataway.
| Approximately 0.4 mile upstream of South Washington Avenue (Route 529) | +54
Bound Brook | Upstream side of South Avenue | +47 | Township of Piscataway.
| Approximately 750 feet upstream of South Avenue | +48
Boundary Branch Mill Brook No. 1 | At the confluence with Mill Brook No. 1 | +45 | Borough of Highland Park, Township of Edison.
| Approximately 25 feet downstream of Brookhill Avenue | +74
Coppermine Brook | At the confluence with South Branch Rahway River | +40 | Township of Edison, Township of Woodbridge.
| Approximately 1,870 feet upstream of Lincoln Highway (Route 27) | +59
Green Brook | At the confluence with the Raritan River | +34 | Borough of Middlesex.
| At the downstream side of New Jersey Central Railroad | +34
Lake Lefferts | Entire shoreline within Middlesex County | +17 | Township of Old Bridge.
Lawrence Brook | At the confluence with the Raritan River | +11 | Township of East Brunswick.
| At the downstream side of Westons Mill Dam 1 | +11
Matawan Creek | At the downstream side of Old Bridge-Matawan Road | +17 | Township of Old Bridge.
| Approximately 0.8 mile upstream of Old Bridge-Matawan Road | +25
Mill Brook No. 1 | At the confluence with the Raritan River | +16 | Borough of Highland Park.
| Approximately 955 feet upstream of Harrison Avenue | +45
Rahway River | At the confluence with Arthur Kill | +7 | Borough of Carteret, Township of Woodbridge.
| At the county boundary | +7
Raritan River | Approximately 1.4 mile downstream of the New Jersey Turnpike | +10 | Township of East Brunswick, Borough of Highland Park, Borough of Middlesex, City of New Brunswick, Township of Edison, Township of Piscataway.
| At the confluence with Green Brook | +34
South Branch Rahway River | At the upstream side of Wood Avenue | +40 | Township of Edison, Township of Woodbridge.
| Approximately 450 feet upstream of County Route 657 | +44
West Branch Mill Brook No. 1 | At the confluence with Mill Brook No. 1 | +31 | Borough of Highland Park.
| Approximately 760 feet upstream of Bartle Court | +51
* National Geodetic Vertical Datum.
+ North American Vertical Datum.
# Depth in feet above ground.
‸ Mean Sea Level, rounded to the nearest 0.1 meter.
ADDRESSES
Borough of Carteret
Maps are available for inspection at the Carteret Memorial Municipal Building, 61 Cooke Avenue, Carteret, NJ 07008.
Borough of Dunellen
Maps are available for inspection at 355 North Avenue, Dunellen, NJ 08812.
Borough of Highland Park
Maps are available for inspection at 3141 Bordertown Avenue, Parlin, NJ 08859.
Borough of Middlesex
Maps are available for inspection at 1200 Mountain Avenue, Middlesex, NJ 08846.
City of New Brunswick
Maps are available for inspection at 78 Bayard Street, New Brunswick, NJ 08901.
Township of East Brunswick
Maps are available for inspection at 1 Jean Walling Civic Center Drive, East Brunswick, NJ 08816.
Township of Edison
Maps are available for inspection at 100 Municipal Boulevard, Edison, NJ 08817.
Township of Old Bridge
Maps are available for inspection at 1 Old Bridge Plaza, Old Bridge, NJ 08857.
Township of Piscataway
Maps are available for inspection at 455 Hoes Lane, Piscataway, NJ 08854.
Township of Woodbridge
Maps are available for inspection at 1 Main Street, Woodbridge, NJ 07095.
Rolette County, North Dakota, and Incorporated Areas
Docket No.: FEMA-B-1049
Ox Creek | Approximately 501 feet upstream of the southern corporate limit of Belcourt | +1903 | Chippewa Indian Reservation (Turtle Mountain Band).
| Approximately 27 feet downstream of Belcourt Lake | +2015
Ox Creek Breakout | Approximately 100 feet upstream of 99th Street Northeast | +1971 | Chippewa Indian Reservation (Turtle Mountain Band).
| Approximately 2,154 feet upstream of 99th Street Northeast | +1972
* National Geodetic Vertical Datum.
+ North American Vertical Datum.
# Depth in feet above ground.
‸ Mean Sea Level, rounded to the nearest 0.1 meter.
ADDRESSES
Chippewa Indian Reservation (Turtle Mountain Band)
Maps are available for inspection at Highway 5 West, Belcourt, ND 58316.
Muskingum County, Ohio, and Incorporated Areas
Docket No.: FEMA-B-1047
Moxahala Creek | Approximately 1,300 feet downstream of Ransbottom Road | +734 | Unincorporated Areas of Muskingum County.
| Approximately 500 feet downstream of East 1st Street | +735
Muskingum River | Approximately 0.4 mile downstream of East Muskingum Avenue (State Route 208) | +718 | Village of Dresden.
| At the confluence with Wakatomika Creek | +720
Muskingum River | Approximately 0.6 mile downstream of the confluence with Salt Creek | +683 | Village of Philo.
| Approximately 0.5 mile upstream of the confluence with Salt Creek | +685
Wakatomika Creek | Approximately 0.5 mile downstream of Main Street | +720 | Unincorporated Areas of Muskingum County, Village of Dresden.
| Approximately 1,400 feet downstream of Frazeysburg Road | +725
Wakatomika Creek | Approximately 0.6 mile downstream of Shannon Road | +745 | Unincorporated Areas of Muskingum County, Village of Frazeysburg.
| Just downstream of Canal Road | +751
* National Geodetic Vertical Datum.
+ North American Vertical Datum.
# Depth in feet above ground.
‸ Mean Sea Level, rounded to the nearest 0.1 meter.
ADDRESSES
Unincorporated Areas of Muskingum County
Maps are available for inspection at 401 Main Street, Zanesville, OH 43701.
Village of Dresden
Maps are available for inspection at 904 Chestnut Street, Dresden, OH 43821.
Village of Frazeysburg
Maps are available for inspection at 7 West Second Street, Frazeysburg, OH 43822.
Village of Philo
Maps are available for inspection at 300 Main Street, Philo, OH 43771.
Yankton County, South Dakota, and Incorporated Areas
Docket No.: FEMA-B-1050
James River | Just upstream of the confluence with the Missouri River | +1167 | Unincorporated Areas of Yankton County.
| Approximately 600 feet upstream of County Highway 213 (431st Avenue) | +1188
* National Geodetic Vertical Datum.
+ North American Vertical Datum.
# Depth in feet above ground.
‸ Mean Sea Level, rounded to the nearest 0.1 meter.
ADDRESSES
Unincorporated Areas of Yankton County
Maps are available for inspection at 321 West 3rd Street, Yankton, SD 57078.
Spokane County, Washington, and Incorporated Areas
FEMA Docket Number: B-1009
Argonne Creek | Approximately 1,300 feet downstream of North Maringo Drive | +1922 | Unincorporated Areas of Spokane County.
| Approximately 600 feet upstream of North Boeing Road | +1987
Forker Draw | Approximately at North Progress Road | +2065 | City of Spokane Valley, Unincorporated Areas of Spokane County.
| Approximately 70 feet downstream of East Bigelow Gulch Road | +2336
* National Geodetic Vertical Datum.
+ North American Vertical Datum.
# Depth in feet above ground.
‸ Mean Sea Level, rounded to the nearest 0.1 meter.
ADDRESSES
City of Spokane Valley
Maps are available for inspection at 11707 East Sprague Avenue, Suite 106, Spokane Valley, WA 99206.
Unincorporated Areas of Spokane County
Maps are available for inspection at 808 West Spokane Falls Boulevard, Spokane, WA 99201.
Black River | Approximately 4,460 feet downstream of County Highway G | +1113 | City of Greenwood.
| Approximately 4,960 feet upstream of County Highway G | +1126
* National Geodetic Vertical Datum.
+ North American Vertical Datum.
# Depth in feet above ground.
‸ Mean Sea Level, rounded to the nearest 0.1 meter.
ADDRESSES
City of Greenwood
Maps are available for inspection at City Hall, 102 North Main Street, Greenwood, WI 54437.

(Catalog of Federal Domestic Assistance No. 97.022, “Flood Insurance.”)

Dated: April 27, 2010.
Sandra K. Knight,
Deputy Federal Insurance and Mitigation Administrator, Mitigation, Department of Homeland Security, Federal Emergency Management Agency.

[FR Doc. 2010-10337 Filed 5-3-10; 8:45 am]

BILLING CODE 9110-12-P